DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

2000 Survey of Mental Health Organizations, General Hospital Mental Health Services, and Managed Care Organizations (SMHO)—(OMB No. 0930-0119, revision)—The survey, to be conducted by SAMHSA's Center for Mental Health Services (CMHS), will be conducted in two phases. Phase I will be a brief two-three page inventory consisting of four forms: (1) a specialty mental health organization and general hospital with separate mental health services form; (2) a general hospital with integrated mental health services screener form; (3) a community residential organization screener form; and (4) a managed behavioral healthcare organization form. This short inventory will be sent to all known organizations to define the universe of valid mental health organizations to be sampled in Phase II. The inventory will collect basic information regarding the name and address of the organizations, their type and ownership, and the kinds of services provided.

Phase II will sample approximately 2,000 mental health organizations and utilize a more detailed survey instrument. Although the Sample Survey form will be more comprehensive, it will be very similar to surveys and inventories fielded in 1998, 1994, 1992 and earlier. The organizational data to be collected by the Sample Survey form include university affiliation, client/patient census by basic demographics, revenues, expenditures, and staffing.

The resulting database will be used to provide national estimates and will be the basis for the National Directory of Mental Health Services. In addition, data derived from the survey will be published by CMHS in Data Highlights, in Mental Health, United States, and in professional journals such as Psychiatric Services and the American Journal of Psychiatry. Mental Health, United States is used by the general public, state governments, the U.S. Congress, university researchers, and other health care professionals.

Questionnaire | Number of respondents | Responses/ respondent | Average hour/ response | Total burden
Phase I (Inventory)
Specialty Mental Health Organizations | 3,563 | 1 | 0.5 | 1,781
State Central Database Processing | 413 | 1 | 0.2 | 83
National Association of Psychiatric Health Systems Processing | 150 | 1 | 0.2 | 30
General Hospitals with Separate Mental Health Services | 1,736 | 1 | 0.5 | 868
General Hospitals with Integrated Mental Health Services | 3,617 | 1 | 0.5 | 1,809
Community Residential Organizations | 1,415 | 1 | 0.5 | 707
Managed Care Organizations | 1,740 | 1 | 0.5 | 870
Phase I Subtotal | 12,634 |  |  | 6,148
Phase II (Sample Survey)
Specialty Mental Health Organizations | 1,213 | 1 | 3.0 | 3,639
State Central Database Processing | 140 | 1 | 0.5 | 70
National Association of Psychiatric Health Systems Processing | 151 | 1 | 0.5 | 26
General Hospitals with Separate Mental Health Services | 596 | 1 | 3.0 | 1,788
Phase II Subtotal | 2,000 |  |  | 5,523
Grand total | 12,634 |  |  | 11,671
3-Year Average | 4,211 |  |  | 3,890

Written comments and recommendations concerning the proposed information collection should be sent within 30 days of this notice to: Stuart Shapiro, Human Resources and Housing Branch, Office of Management and Budget, New Executive Office Building, Room 10235, Washington, D.C. 20503.

Dated: November 30, 2000.
Richard Kopanda,
Executive Officer, SAMHSA.

[FR Doc. 00-31001 Filed 12-5-00; 8:45 am]

BILLING CODE 4162-20-P